DEPARTMENT OF COMMERCE

National Oceanic and Atmospheric Administration

Solicitation of Membership Nominations for the Advisory Committee on Excellence in Space (ACES)

AGENCY: Office of Space Commerce, National Oceanic and Atmospheric Administration (NOAA), Department of Commerce.

ACTION: Solicitation of membership nominations.

SUMMARY: NOAA is seeking up to 25 individuals to serve on the Advisory Committee on Excellence in Space (ACES), a Federal advisory committee. Members of the committee will evaluate economic, technological, and institutional developments relating to nongovernmental space activities and submit advice and recommendations on promising new ideas and approaches for Federal policies and programs. The ACES membership should consist of a variety of space policy, engineering, technical, science, legal, and finance professionals with significant experience in the commercial space industry.

DATES: Submit nominations no later than May 29, 2024. Applications received after the deadline may be considered for future membership cycles.

ADDRESSES: Submit nominations via email to space.commerce@noaa.gov.

FOR FURTHER INFORMATION CONTACT: Jason Y. Kim, Chief of Staff, NOAA Office of Space Commerce, 68015 Herbert C. Hoover Bldg., 1401 Constitution Ave. NW, Washington, DC 20230; Email: space.commerce@noaa.gov; Telephone: 202-482-5827.

SUPPLEMENTARY INFORMATION: The Department of Commerce chartered ACES on March 4, 2024, to provide advice and recommendations to the Under Secretary of Commerce for Oceans and Atmosphere (Under Secretary) or the Director of the Office of Space Commerce (OSC) on matters relating to OSC's statutory purview. A list of topics within that purview is provided in the ACES charter at https://www.space.commerce.gov/aces/. ACES will assist NOAA to obtain information and advice from a variety of knowledgeable and independent perspectives.

ACES will function solely in an advisory capacity and in accordance with the provisions of the Federal Advisory Committee Act, as amended, 5 U.S.C. 1001 et seq. ACES will not exercise program management or regulatory development responsibilities nor make any decisions directly affecting the programs on which it provides advice.

Committee members will generally serve for a term of two years and may serve additional terms, if reappointed. Nominees for membership must be able to attend committee meetings approximately twice per year; members may not send alternates. Members shall not be compensated for their participation.

ACES will have a fairly balanced membership consisting of no more than 25 members serving in a Representative or Special Government Employee (as defined in 18 U.S.C. 202(a)) capacity. The membership should be a mix of industry leaders at the executive level and non-industry members from academia, not-for-profit organizations (e.g., foundations, think tanks), and other entities (e.g., state governments, tribal nations). Some members may represent entities that are NOAA licensees. OSC seeks geographic diversity to ensure representation of space communities throughout the United States. Where possible, OSC will also consider the ethnic, racial, and gender diversity and various abilities of the United States population.

Nominations are encouraged from all interested U.S. persons and organizations representing interests affected by commercial space policies, regulations, operations, and activities. Nominations should include the individual's name and organizational affiliation, a brief description of the nominee's qualifications and interest in serving on ACES, a resume, and no more than three supporting letters describing the nominee's qualifications and interest in serving. Each submission should also provide the nominee's home address, business address, phone number(s), and email address. Self-nominations are acceptable.

Privacy Act Statement

Authority. The collection of information concerning nominations to ACES is authorized under the FACA, 5 U.S.C. 1001 et seq., and its implementing regulations, 41 CFR part 102-3, and in accordance with the Privacy Act of 1974, as amended, (Privacy Act) 5 U.S.C. 552a.

Purpose. The collection of names, contact information, resumes, professional information, and qualifications is required in order for the Under Secretary or the OSC Director to appoint members to ACES.

Routine Uses. NOAA will use the nomination information for the purpose set forth above. The Privacy Act of 1974 authorizes disclosure of the information collected to NOAA staff for work-related purposes and for other purposes only as set forth in the Privacy Act and for routine uses published in the Privacy Act System of Records Notice COMMERCE/DEPT-11, Candidates for Membership, Members, and Former Members of Department of Commerce Advisory Committees, available at https://www.commerce.gov/opog/privacy/SORN/SORN-DEPT-11, and the System of Records Notice COMMERCE/DEPT-18, Employees Personnel Files Not Covered by Notices of Other Agencies, available at https://www.commerce.gov/opog/privacy/SORN/SORN-DEPT-18.

Disclosure. Furnishing the nomination information is voluntary; however, if the information is not provided, the individual would not be considered for appointment as a member of ACES.

Richard DalBello,
Director, NOAA Office of Space Commerce.

[FR Doc. 2024-08630 Filed 4-26-24; 8:45 am]

BILLING CODE 3511-43-P